SOCIAL SECURITY ADMINISTRATION

[Docket No. SSA 2009-0021]

Privacy Act of 1974, as Amended; Computer Matching Program (SSA/States, SDX-BENDEX-SVES Files)—Match 6000 and 6003)

AGENCY: Social Security Administration (SSA).

ACTION: Notice of a renewal of an existing computer matching program which is scheduled to expire on December 31, 2009.

SUMMARY: In accordance with the provisions of the Privacy Act, as amended, this notice announces a renewal of an existing computer matching program that we are currently conducting with the States.

DATES: We will file a report of the subject matching program with the Committee on Homeland Security and Governmental Affairs of the Senate, the Committee on Oversight and Government Reform of the House of Representatives, and the Office of Information and Regulatory Affairs, Office of Management and Budget (OMB). The matching program will be effective as indicated below.

ADDRESSES: Interested parties may comment on this notice by either telefaxing to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 (Pub. L. 100-503), amended the Privacy Act (5 U.S.C. 552a) by describing the conditions under which computer matching involving the Federal government could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) approval of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Dated: May 13, 2009.
Mary Glenn-Croft,
Deputy Commissioner for Budget, Finance and Management.

Notice of Computer Matching Program, SSA With the States

A. Participating Agencies

SSA and the States.

B. Purpose of the Matching Program

The purpose of this matching program is to establish the conditions, safeguards, and procedures under which the States may obtain Social Security number (SSN) verification and certain information from us relating to the eligibility for, and payment of, Social Security, Supplemental Security Income, and Special Veterans Benefits, including certain tax return, quarters of coverage, prisoner, and death information. This information is available from our various Systems of Records.

Individual agreements with the States will describe the information to be disclosed and the conditions under which we agree to disclose such information.

C. Authority for Conducting the Matching Program

Our authority to disclose data and the State Agency's authority to use data protected under our Systems of Records for specified purposes is Sections 1137, 453, and 1106(b) of the Social Security Act (42 U.S.C. 1306(b), 1320b-7, and 653). Under this legal authority, the State Agency has independent authority to collect and maintain data from our Systems of Records.

The Privacy Act, Section 1106(a) of the Social Security Act (42 U.S.C. 1306), the regulations promulgated pursuant to that section (20 CFR Part 401), and the Federal Information Security Management Act of 2002 (FISMA) (44 U.S.C. 3541, et seq.), provide legal requirements for the disclosure and use of our data protected under applicable Systems of Records.

D. Categories of Records and Individuals Covered by the Matching Program

States will provide us with names and other identifying information of appropriate benefit applicants or recipients. Specific information from participating States will be matched, as provided in the agreement for the specific programs, with the following systems of records maintained by us.

1. SDX—Supplemental Security Record/Special Veteran's Benefits (SSR/SVB) System, SSA/ODSSIS (60-0103);

2. BENDEX—Master Beneficiary Record (MBR), SSA/ORSIS (60-0090) and the Earnings Recording and Self-Employment Income System, SSA/OEEAS (60-0059);

3. SVES—SSR/SVB, SSA/ODSSIS (60-0103); MBR, SSA/ORSIS (60-0090); the Earnings Recording and Self-Employment Income System, SSA/OEEAS (60-0059); the Master Files of SSN Holders and SSN Applications, SSA/OEEAS (60-0058); and the Prisoner Update Processing System (PUPS), SSA/OEEAS (60-0269);

4. Quarters of Coverage Query—the Earnings Recording and Self-Employment Income System, SSA/OEEAS (60-0059) and the Master Files of SSN Holders and SSN Applications, SSA/OEEAS (60-0058);

5. Prisoner Query—PUPS, SSA/OEEAS (60-0269).

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

Individual State matching agreements under the matching program will become effective upon the effective date of this matching program or the signing of the agreements by the parties to the individual agreements, whichever is later. The duration of individual State matching agreements will be subject to the timeframes and limitations contained in this matching program.

[FR Doc. E9-11714 Filed 5-19-09; 8:45 am]

BILLING CODE 4191-02-P